FEDERAL COMMUNICATIONS COMMISSION

[DA-00-1184]

Telecommunications Services Between the United States and Cuba

AGENCY: Federal Communications Commission.

ACTION: Notice.

SUMMARY: On May 25, 2000, the Commission approved the application of Sprint Communications Company, L.P. (Sprint) to acquire and operate additional satellite facilities for provision of service between the United States and Cuba. This application includes upgrade of an existing private line circuit between an authorized international earth station in New Jersey and INTELSAT's Atlantic Ocean Region satellite. Sprint is currently authorized by the Commission to provide service directly to Cuba.

The Commission has authorized Sprint to provide service between the United States and Cuba in accordance with the provisions of the Cuban Democracy Act. This will help meet the demand for direct telecommunications services between the United States and Cuba. Under the guidelines established by the Department of State, Sprint is to submit reports indicating the numbers of circuits activated by facility, on or before June 30, and December 31 of each year, and on the one year anniversary of this notification in the Federal Register. The authorization is, however, subject to revocation if the Department of State or the Federal Communications Commission determines that Sprint's continued provision of communications services to Cuba no longer serves the national interest.

FOR FURTHER INFORMATION, CONTACT: J. Breck Blalock, Chief, Policy and Facilities Branch, (202) 418-1460 or Justin Connor, Attorney Advisor, Policy and Facilities Branch, (202) 418-1476.

Dated: June 20, 2000.
Federal Communications Commission.
Rebecca Arbogast,
Chief, Telecommunications Division, International Bureau.

[FR Doc. 00-16118 Filed 6-23-00; 8:45 am]

BILLING CODE 6712-01-U